DEPARTMENT OF THE INTERIOR

Bureau of Land Management

[LLCON01000 L16100000.DP0000]

Notice of Availability of Record of Decision for the Little Snake Resource Management Plan/Environmental Impact Statement

AGENCY: Bureau of Land Management, Interior.

ACTION: Notice of availability.

SUMMARY: The Bureau of Land Management (BLM) announces the availability of the Record of Decision (ROD)/Approved Resource Management Plan (RMP) for the Little Snake Field Office located in northwest Colorado. The Colorado State Director signed the ROD in October 2011, which constitutes the final decision of the BLM and makes the Approved RMP effective immediately.

ADDRESSES: Copies of the ROD/Approved RMP are available upon request from the Little Snake Field Office, Bureau of Land Management, 455 Emerson St., Craig, Colorado 81625 or at the following Web site: http://www.blm.gov/co/st/en/fo/lsfo/plans/rmp_revision.html. Copies of the ROD are also available for public inspection at the following location: Bureau of Land Management, Colorado State Office, 2850 Youngfield Street, Lakewood, Colorado 80215.

FOR FURTHER INFORMATION CONTACT: For further information contact Matt Anderson, Associate Field Manager/RMP Project Manager, Little Snake Field Office, telephone (970) 826-5000, at the address above, or e-mail: m40ander@blm.gov. Persons who use a telecommunications device for the deaf (TDD) may call the Federal Information Relay Service (FIRS) at (800) 877-8339 to contact the above individual during normal business hours. The FIRS is available 24 hours a day, 7 days a week, to leave a message or question with the above individual. You will receive a reply during normal business hours.

SUPPLEMENTARY INFORMATION: The planning area is located in northwest Colorado in Moffat, Routt, and Rio Blanco counties. The plan provides management decisions on approximately 1.3 million acres of BLM-administered public lands and 1.1 million acres of BLM-administered subsurface mineral estate.

The Little Snake Field Office has worked extensively with interested and affected groups, individuals and cooperating agencies to develop the ROD/RMP. Cooperating agencies include: Moffat County, Colorado Department of Natural Resources; U.S. Fish and Wildlife Service, Division of Ecological Services, the City of Steamboat Springs; and the Juniper Water Conservancy District. An independent stewardship group called the Northwest Colorado Stewardship participated in the Draft RMP/Draft Environmental Impact Statement (EIS) collaborative process.

The management actions in the ROD/RMP seek a balance of resource protection and resource use. Some of the key decisions in the ROD are:

• Seven Special Recreation Management Areas are designated in the ROD.

• Irish Canyon is designated as an Area of Critical Environmental Concern (ACEC). The ACEC objective would be to protect sensitive plants, remnant plant communities, cultural and geologic values, and scenic quality. Several areas formerly managed as ACECs are not designated as ACECs in the ROD because they were deemed as not warranting special management attention. These areas are: Lookout Mountain, Limestone Ridge, and Cross Mountain Canyon ACECs. Management prescriptions would still be in place to protect relevant and important values in these areas.

• The ROD outlines management actions to protect wilderness characteristics in 4 areas of the planning area: Cold Springs Mountain, Vermillion Basin, Dinosaur North, and Little Yampa Canyon. The management objectives for these areas would be to protect naturalness, opportunities for semi-primitive recreation and solitude. Cold Spring Mountain, Dinosaur North and Vermillion Basin are closed to oil and gas leasing and development. Little Yampa Canyon is subject to no surface occupancy stipulations.

• The majority of lands (86 percent) within the Little Snake Field Office will be Limited to Existing Routes or Limited to Designated Routes in the ROD. Seven percent will be open to cross country travel, and 6 percent will be closed to motorized vehicle use.

• Many wildlife populations are protected by timing limitation stipulations and no surface occupancy buffers around nests.

• The majority (more than 90 percent) of recoverable fluid minerals can be developed within the constraints of the ROD.

• Disturbance limits are placed in areas of important wildlife habitat, especially sagebrush ecosystems.

• The ROD lays out a framework that would allow the BLM to use “adaptive management” at the implementation stage, giving the BLM greater flexibility and promoting proactive management.

The Approved RMP was prepared under the authorities of the Federal Land Policy and Management Act of 1976 and the National Environmental Policy Act of 1969. The BLM released the Draft RMP/Draft EIS for a 90-day public review period in February 2007. The BLM released the Proposed RMP/Final EIS in August 2010. The Approved RMP is nearly identical to the Proposed Plan (Alternative C) presented in the 2010 Proposed RMP/Final EIS. No inconsistencies were identified during the Governor's consistency review of the Proposed RMP/Final EIS. Decisions in the ROD are land use planning decisions that are protestable under BLM planning regulations (43 CFR subpart 1610.5). The BLM received 8 valid protest letters during the 30-day protest period after publishing the Proposed RMP/Final EIS. The BLM Director addressed all the protests without making significant changes to the Proposed RMP; minor corrections and clarifications are included in the “Clarifications” section of the ROD. There are no appealable decisions included in the ROD, as the ROD did not include any implementation-level decisions.

Anna Marie Burden,
Acting Colorado State Director.

Authority: 40 CFR 1506.6; 43 CFR 1610.2(g), 1610.5-1(b).

[FR Doc. 2011-26737 Filed 10-14-11; 8:45 am]

BILLING CODE 4310-JB-P